ENVIRONMENTAL PROTECTION AGENCY

40 CFR Part 52

[EPA-R05-OAR-2010-0671; FRL-9498-5]

Approval and Promulgation of Implementation Plans; Illinois; Volatile Organic Compound Emission Control Measures for Chicago and Metro-East St. Louis Ozone Nonattainment Areas

AGENCY: Environmental Protection Agency (EPA).

ACTION: Proposed rule.

SUMMARY: On July 29, 2010, September 16, 2011, and September 29, 2011, the Illinois Environmental Protection Agency (IEPA) submitted several volatile organic compound (VOC) rules for approval into its State Implementation Plan (SIP). The purpose of these rules is to satisfy the Clean Air Act's (the Act) requirement that States revise their SIPs to include reasonably available control technology (RACT) for sources of VOC emissions in moderate ozone nonattainment areas. Illinois' VOC rules provide RACT requirements for the Chicago and Metro-East St. Louis 8-hour ozone nonattainment areas. These rules are approvable because they are consistent with the Control Technique Guideline (CTG) documents issued by EPA in 2006, 2007, and 2008 and satisfy the RACT requirements of the Act.

DATES: Comments must be received on or before December 30, 2011.

ADDRESSES: Submit your comments, identified by Docket ID No. EPA-R05-OAR-2010-0671, by one of the following methods:

• http://www.regulations.gov: Follow the on-line instructions for submitting comments.

• Email: aburano.douglas@epa.gov.

• Fax: (312) 408-2279.

• Mail: Douglas Aburano, Chief, Attainment Planning and Maintenance Section (AR-18J), U.S. Environmental Protection Agency, 77 West Jackson Boulevard, Chicago, Illinois 60604.

• Hand Delivery: Douglas Aburano, Chief, Attainment Planning and Maintenance Section (AR-18J), U.S. Environmental Protection Agency, 77 West Jackson Boulevard, 18th floor, Chicago, Illinois 60604. Such deliveries are only accepted during the Regional Office's normal hours of operation, and special arrangements should be made for deliveries of boxed information. The Regional Office official hours of business are Monday through Friday, 8:30 a.m. to 4:30 p.m., excluding Federal holidays.

Instructions: Direct your comments to Docket ID No. EPA-R05-OAR-2010-0671. EPA's policy is that all comments received will be included in the public docket without change and may be made available online at http://www.regulations.gov, including any personal information provided, unless the comment includes information claimed to be Confidential Business Information (CBI) or other information whose disclosure is restricted by statute. Do not submit information that you consider to be CBI or otherwise protected through http://www.regulations.gov or email. The http://www.regulations.gov Web site is an “anonymous access” system, which means EPA will not know your identity or contact information unless you provide it in the body of your comment. If you send an email comment directly to EPA without going through http://www.regulations.gov your email address will be automatically captured and included as part of the comment that is placed in the public docket and made available on the Internet. If you submit an electronic comment, EPA recommends that you include your name and other contact information in the body of your comment and with any disk or CD-ROM you submit. If EPA cannot read your comment due to technical difficulties and cannot contact you for clarification, EPA may not be able to consider your comment. Electronic files should avoid the use of special characters, any form of encryption, and be free of any defects or viruses. For additional instructions on submitting comments, go to Section I of the SUPPLEMENTARY INFORMATION section of this document.

Docket: All documents in the docket are listed in the http://www.regulations.gov index. Although listed in the index, some information is not publicly available, e.g., CBI or other information whose disclosure is restricted by statute. Certain other material, such as copyrighted material, will be publicly available only in hard copy. Publicly available docket materials are available either electronically in http://www.regulations.gov or in hard copy at the Environmental Protection Agency, Region 5, Air and Radiation Division, 77 West Jackson Boulevard, Chicago, Illinois 60604. This facility is open from 8:30 a.m. to 4:30 p.m., Monday through Friday, excluding Federal holidays. We recommend that you telephone Steven Rosenthal at (312) 886-6052 before visiting the Region 5 office.

FOR FURTHER INFORMATION CONTACT: Steven Rosenthal, Environmental Engineer, Attainment Planning & Maintenance Section, Air Programs Branch (AR-18J), U.S. Environmental Protection Agency, Region 5, 77 West Jackson Boulevard, Chicago, Illinois 60604, (312) 886-6052, rosenthal.steven@epa.gov.

SUPPLEMENTARY INFORMATION: Throughout this document whenever “we,” “us,” or “our” is used, we mean EPA. This supplementary information section is arranged as follows:

I. What should I consider as i prepare my comments for EPA?

II. What action is EPA taking today?

III. What is the purpose of this action?

IV. What is EPA's analysis of Illinois' submitted VOC rules?

V. Statutory and Executive Order Reviews

I. What should I consider as I prepare my comments for EPA?

When submitting comments, remember to:

1. Identify the rulemaking by docket number and other identifying information (subject heading, Federal Register date, and page number).

2. Follow directions—EPA may ask you to respond to specific questions or organize comments by referencing a Code of Federal Regulations (CFR) part or section number.

3. Explain why you agree or disagree; suggest alternatives and substitute language for your requested changes.

4. Describe any assumptions and provide any technical information and/or data that you used.

5. If you estimate potential costs or burdens, explain how you arrived at your estimate in sufficient detail to allow for it to be reproduced.

6. Provide specific examples to illustrate your concerns, and suggest alternatives.

7. Explain your views as clearly as possible, avoiding the use of profanity or personal threats.

8. Make sure to submit your comments by the comment period deadline identified.

II. What action is EPA taking today?

EPA is proposing to approve into the Illinois SIP several new VOC rules at 35 Illinois Adm. Code 211, 218, and 219, which set out RACT requirements for categories of VOC sources in two ozone nonattainment areas. These rules correspond to and are consistent with the source categories and control recommendations in the CTGs issued by EPA in 2006, 2007, and 2008. Illinois adopted new rules for industrial cleaning solvents, flat wood paneling coatings, flexible packaging printing materials, lithographic printing materials, letterpress printing materials, paper, film and foil coatings, metal furniture coatings, large appliance coatings, miscellaneous metals and plastic parts coatings, auto and light-duty truck coatings, miscellaneous industrial adhesives, and fiberglass boat manufacturing materials. Illinois also adopted several other related revisions, which were mostly corrections to improve the effectiveness of its existing VOC rules.

III. What is the purpose of this action?

The primary purpose of these rules is to satisfy the requirement in section 182(b) of the Act that VOC RACT rules be adopted for nonattainment areas for the source categories covered by the CTG documents issued by EPA in 2006, 2007, and 2008. The Chicago and Metro-East St. Louis areas are classified as moderate nonattainment for the 8-hour ozone national ambient air quality standard. See 40 CFR 81.314.

Section 182(b)(2) of the Act requires that for areas classified as moderate or above for ozone nonattainment States must revise their SIPs to adopt RACT requirements for VOC sources that are covered by CTGs. RACT is defined as the lowest emissions limitation that a particular source is capable of meeting by the application of control technology that is reasonably available considering technological and economic feasibility (44 FR 53762, September 17, 1979). A CTG provides information on determining RACT for a source category including recommendations on control options and enforcement provisions for the category.

IV. What is EPA's analysis of Illinois' submitted VOC rules?

As discussed previously, EPA issued new CTGs in 2006, 2007, and 2008. EPA has reviewed Illinois' new VOC rules for the source categories covered by these CTGs, and proposes to find that these rules are consistent with the control measures, definitions, recordkeeping and test methods in these CTGs and applicable EPA RACT guidance at http://www.epa.gov/ttn/naaqs/ozone/ozonetech/#ref. Therefore EPA is proposing to approve these rules as meeting the RACT requirements in the Act. The definitions in 35 Illinois Adm. Code Part 211 apply to both the Chicago and Metro-East St. Louis 8-hour ozone nonattainment areas. 35 Illinois Adm. Code Part 218 contains the volatile organic material (VOM), which is the same as VOC, emission standards and limitations for specified categories of VOM sources in the Chicago Area and Part 219 contains the VOM emission standards and limitations for the same categories of VOM sources in the Metro-East St. Louis Area. The General Provisions for Parts 218 and 219 include test methods and procedures to ensure enforceability of the VOM limits. A brief discussion of these rules follows.

(1) Section 211—Definitions

Revisions to this section primarily consist of new definitions that are needed to support the new and revised rules. These definitions are consistent with EPA RACT guidance and are approvable.

(2) Sections 218.187 and 219.187—Other Industrial Solvent Cleaning Operations

These new regulations are based on EPA's 2006 CTG for Industrial Cleaning Solvents. The requirements of these sections apply to all cleaning operations that emit 500 pounds of VOM per month. This section contains VOM content limits for cleaning solutions, depending upon the type of cleaning being performed. Compliance can also be achieved by using a cleaning solution that does not exceed 8.00 millimeters of mercury (mmHg) or by use of add-on control (i.e., an afterburner or carbon adsorber) that achieves 85 percent control. Work practices (e.g. cover open containers) are also required to further reduce emissions. Recordkeeping requirements are also included to establish applicability and whether subject sources are in compliance.

(3) Sections 218.204-218.219 and 218.204-218.219—Coating Operations

Illinois' surface coating regulations being proposed for approval include requirements for applicability, emissions limits, control techniques, and work practices. These regulations are based on the relevant 2006, 2007, and 2008 CTGs. For example, based upon the applicability cutoffs for the surface coating rules, which are contained in sections 218.208 and 219.208, the various surface coating emission limits apply to sources with emissions of VOMs (resulting from the application of surface coatings) equal to or greater than 15 pounds (6.8 kilograms) per day, or an equivalent level of 2.7 tons per 12 month rolling period.

The categories of Illinois' surface coating regulations being proposed for approval in this action are identified below.

Flat Wood Paneling—These regulations have been revised based on EPA's 2006 CTG for Flat Wood Paneling Coatings. Illinois' VOM content limits are 2.1 pounds VOM/gallon of coating or 2.9 pounds VOM/gallon of solids, which are consistent with the CTG. When compliance is achieved by the use of add-on control, the required overall control efficiency of 90 percent is also consistent with the CTG.

Large Appliance Coatings—These regulations have been revised based on EPA's 2007 CTG for Large Appliance Coatings. Emission limits, e.g. 2.3 pounds VOM/gallon for general, one component coatings, are consistent with the CTG. When compliance is achieved by the use of add-on control, the required overall control efficiency of 90 percent is also consistent with the CTG.

Metal Furniture Coatings—These regulations have been revised based on EPA's 2007 CTG for Metal Furniture Coatings. Emission limits, e.g. 2.3 pounds VOM/gallon for general, one component coatings, are consistent with the CTG. When compliance is achieved by the use of add-on control, the required overall control efficiency of 90 percent is also consistent with the CTG.

Paper, Film, and Foil Coatings—These regulations have been revised based on EPA's 2007 CTG for Paper, Film, and Foil Coatings. Illinois' VOM content limits are 0.20 pounds VOM/pound of solids applied for pressure sensitive tape and label surface coatings, and 0.40 pounds VOM/pound solids applied for all other paper coatings, which are consistent with the CTG. When compliance is achieved by the use of add-on control, the required overall control efficiency of 90 percent is also consistent with the CTG.

Miscellaneous Metal and Plastic Parts Coatings—These regulations have been revised based on EPA's 2008 CTG for Miscellaneous Metal Products Coatings and Plastic Parts Coatings. Emission limits, e.g. 2.3 pounds VOM/gallon for general, one component coatings, are consistent with the CTG. When compliance is achieved by the use of add-on control, the required overall control efficiency of 90 percent is also consistent with the CTG.

Automobile and Light-duty Truck Assembly Coatings—These regulations have been revised based on EPA's 2008 CTG for Auto and Light-Duty Truck Assembly Coatings. Emission limits, e.g. 1.44 pounds VOM/gallon coating solids deposited for topcoat operations, are consistent with the CTG. As specified in the CTG, compliance with these limits is based on EPA's “Protocol for Determining the Daily VOC Emission Rate of Automobile and Light-Duty Truck Primer-Surfacer and Topcoat Operations.” This testing protocol considers the VOM content limit, the transfer efficiency and the efficiency of add-on control to establish compliance with the applicable emission limit.

(4) Graphic Arts

Illinois' graphic arts regulations being proposed for approval in this action include applicability and control requirements, and are based on the relevant 2006 CTGs. The categories of Illinois graphic arts regulations being proposed for approval in this action are identified below.

Sections 218.401-404 and 219.401-404—Flexible Package Printing

These regulations have been revised based on EPA's 2006 CTG for Flexible Packaging Printing Materials. Subject printing lines may comply by meeting limits of 0.8 pounds VOM per pound of solids applied or 0.16 pounds VOM per pound of ink and coatings applied.

Alternatively, compliance can be achieved by the use of add-on control achieving an overall reduction in VOM emissions ranging from 65 percent to 80 percent, depending upon when the printing line and control device were constructed. Work practices to reduce emissions from the use of VOM containing cleaning materials are also required. Recordkeeping requirements are also specified to establish applicability and compliance with the applicable limits.

Sections 218.405-411 and 219.405-411—Lithographic Printing

These regulations are based on EPA's 2006 CTG for Lithographic Printing. The control requirements for cleaning materials and fountain solutions apply if the combined emissions of VOM exceed 15 pounds per day. The add-on control requirements for heatset web offset printing operations apply if the combined emissions of VOM from all lithographic printing lines at the source ever exceed 100 pounds per day. The fountain solution is subject to a percent VOM limit, based upon the temperature and whether or not the fountain solution contains alcohol. The cleaning materials must not exceed 70 percent by weight VOM or the VOM composite partial pressure must be less than 10 mmHg. An add-on control device on a subject heatset dryer must achieve a 90 percent or 95 percent reduction of VOM emissions, depending on the installation date of the add-on control device, or alternatively can comply by not exceeding an outlet concentration of 20 parts per million by volume (ppmv), as carbon. Recordkeeping requirements are also specified to establish applicability and compliance with the applicable limits.

Sections 218.412-417 and 219.412-417—Letterpress Printing

These regulations are based on EPA's 2006 CTG for Letterpress Printing. The control requirements for cleaning materials apply if the combined emissions of VOM exceed 15 pounds per day. The add-on control requirements for heatset web letterpress printing operations apply if the combined emissions of VOM from all heatset web letterpress printing lines have a total potential to emit 25 tons or more of VOM per year. The cleaning materials must not exceed 70 percent by weight VOM or the VOM composite partial pressure must be less than 10 mmHg. An add-on control device on a subject heatset dryer must achieve a 90 percent or 95 percent reduction of VOM emissions, depending on the installation date of the add-on control device, or alternatively can comply by not exceeding an outlet concentration of 20 ppmv, as carbon. Recordkeeping requirements are also specified to establish applicability and compliance with the applicable limits.

(5) Sections 218.900-218.904 and 218.900-904—Miscellaneous Industrial Adhesives

These new regulations are based on EPA's 2008 CTG for Miscellaneous Industrial Adhesive Application Operations. The control requirements for miscellaneous industrial adhesive application operations apply if the combined emissions of VOM from all such operations equal or exceed 15 pounds per day. Subject adhesive application operations must either meet the specific VOM content limitations, depending upon the substrate being bonded (e.g. 0.3 pounds VOM per gallon of adhesive for bonding metal) or use an add-on control system that achieves an overall VOM reduction of at least 85 percent. Specific adhesive application methods (e.g. electrostatic spray) and work practices are also required to reduce emissions. Recordkeeping requirements are also specified to establish applicability and compliance with the applicable limits.

(6) Sections 218.890-218.904 and 219.890-904—Fiberglass Boat Manufacturing Materials

These new regulations are based on EPA's 2008 CTG for Fiberglass Boat Manufacturing Materials. The control requirements for fiberglass boat manufacturing operations apply if the combined emissions of VOM from all such operations equal or exceed 15 pounds per day. This rule covers open molding and gel coat operations, resin and gel coat mixing operations, and resin and gel coat application equipment cleaning operations. Emission limits are consistent with the CTG, as are VOC content and vapor pressure limits applicable to cleaning activities in fiberglass boat manufacturing.

Subject facilities can comply by using specified monomer VOM content limits (e.g. production resin applied via atomized spray would need to comply with a weighted average monomer VOM content limit of 28 percent by weight) and a non-monomer VOM content limit of 5 percent. An emission averaging option is also available.

The VOM containing cleaning solutions for routine cleaning of application equipment must either be no more than 5 percent VOM, by weight, or the composite vapor pressure must be no more than 0.50 mmHg. Also, mixing containers that are 55 gallons, or greater, must be covered. Recordkeeping requirements are also specified to establish applicability and compliance with the applicable limits.

V. Statutory and Executive Order Reviews

Under the Act, the Administrator is required to approve a SIP submission that complies with the provisions of the Act and applicable Federal regulations. 42 U.S.C. 7410(k); 40 CFR 52.02(a). Thus, in reviewing SIP submissions, EPA's role is to approve State choices, provided that they meet the criteria of the Act. Accordingly, this action merely approves state law as meeting Federal requirements and does not impose additional requirements beyond those imposed by State law. For that reason, this action:

• Is not a “significant regulatory action” subject to review by the Office of Management and Budget under Executive Order 12866 (58 FR 51735, October 4, 1993);

• Does not impose an information collection burden under the provisions of the Paperwork Reduction Act (44 U.S.C. 3501 et seq.);

• Is certified as not having a significant economic impact on a substantial number of small entities under the Regulatory Flexibility Act (5 U.S.C. 601 et seq.);

• Does not contain any unfunded mandate or significantly or uniquely affect small governments, as described in the Unfunded Mandates Reform Act of 1995 (Pub. L. 104-4);

• Does not have Federalism implications as specified in Executive Order 13132 (64 FR 43255, August 10, 1999);

• Is not an economically significant regulatory action based on health or safety risks subject to Executive Order 13045 (62 FR 19885, April 23, 1997);

• Is not a significant regulatory action subject to Executive Order 13211 (66 FR 28355, May 22, 2001);

• Is not subject to requirements of Section 12(d) of the National Technology Transfer and Advancement Act of 1995 (15 U.S.C. 272 note) because application of those requirements would be inconsistent with the CAA; and

• Does not provide EPA with the discretionary authority to address, as appropriate, disproportionate human health or environmental effects, using practicable and legally permissible methods, under Executive Order 12898 (59 FR 7629, February 16, 1994).

In addition, this rule does not have tribal implications as specified by Executive Order 13175 (65 FR 67249, November 9, 2000), because the SIP is not approved to apply in Indian country located in the state, and EPA notes that it will not impose substantial direct costs on tribal governments or preempt tribal law.

List of Subjects in 40 CFR Part 52

Environmental protection, Air pollution control, Intergovernmental relations, Ozone, Reporting and recordkeeping requirements, Volatile organic compounds.

Dated: November 17, 2011.
Susan Hedman,
Regional Administrator, Region 5.

[FR Doc. 2011-30844 Filed 11-29-11; 8:45 am]

BILLING CODE 6560-50-P